DEPARTMENT OF HOMELAND SECURITY

U.S. Customs and Border Protection

[Docket No. USCBP-2019-0021]

Commercial Customs Operations Advisory Committee (COAC)

AGENCY: U.S. Customs and Border Protection (CBP), Department of Homeland Security (DHS).

ACTION: Committee management; notice of Federal Advisory Committee meeting.

SUMMARY: The Commercial Customs Operations Advisory Committee (COAC) will hold its quarterly meeting on Wednesday, August 21, 2019 in Buffalo, New York. The meeting will be open to the public to attend in person or via webinar.

DATES: The COAC will meet on Wednesday, August 21, 2019, from 1:00 p.m. to 5:00 p.m. EDT. Please note that the meeting may close early if the committee has completed its business.

ADDRESSES: The meeting will be held at the Buffalo Niagara Convention Center, Convention Center Plaza, Buffalo, New York 14202. For information on facilities or services for individuals with disabilities or to request special assistance at the meeting, contact Ms. Florence Constant-Gibson, Office of Trade Relations, U.S. Customs & Border Protection, at (202) 344-1440 as soon as possible.

Pre-Registration: Meeting participants may attend either in person or via webinar after pre-registering using one of the methods indicated below:

For members of the public who plan to attend the meeting in person, please register by 5:00 p.m. EDT August 20, 2019, either: Online at https://teregistration.cbp.gov/index.asp?w=166; by email to tradeevents@dhs.gov; or by fax to (202) 325-4290. You must register prior to the meeting in order to attend the meeting in person.

For CBP personnel who plan to attend in-person, please register online by 5:00 p.m. EDT August 20, 2019, at https://teregistration.cbp.gov/index.asp?w=165.

For members of the public who plan to participate via webinar, please register online at https://teregistration.cbp.gov/index.asp?w=167 by 5:00 p.m. EDT on August 20, 2019.

Please feel free to share this information with other interested members of your organization or association.

Members of the public who are pre-registered to attend and later need to cancel, please do so by August 20, 2019, utilizing the following links: https://teregistration.cbp.gov/cancel.asp?w=166 to cancel an in-person registration; or https://teregistration.cbp.gov/cancel.asp?w=167 to cancel a webinar registration. For CBP personnel who are registered to attend in-peron and later need to cancel, please do so by utilizing the following link: https://teregistration.cbp.gov/cancel.asp?w=165.

To facilitate public participation, we are inviting public comment on the issues the committee will consider prior to the formulation of recommendations as listed in the Agenda section below.

Comments must be submitted in writing no later than August 20, 2019, and must be identified by Docket No. USCBP-2019-0021, and may be submitted by one (1) of the following methods:

• Federal eRulemaking Portal: http://www.regulations.gov. Follow the instructions for submitting comments.

• Email: tradeevents@dhs.gov. Include the docket number in the subject line of the message.

• Fax: (202) 325-4290, Attention Florence Constant-Gibson.

• Mail: Ms. Florence Constant-Gibson, Office of Trade Relations, U.S. Customs and Border Protection, 1300 Pennsylvania Avenue NW, Room 3.5A, Washington, DC 20229.

Instructions: All submissions received must include the words “Department of Homeland Security” and the docket number (USCBP-2019-0021) for this action. Comments received will be posted without alteration at http://www.regulations.gov. Please do not submit personal information to this docket.

Docket: For access to the docket or to read background documents or comments, go to http://www.regulations.gov and search for Docket Number USCBP-2019-0021. To submit a comment, click the “Comment Now!” button located on the top-right hand side of the docket page.

There will be multiple public comment periods held during the meeting on August 21, 2019. Speakers are requested to limit their comments to two (2) minutes or less to facilitate greater participation. Contact the individual listed below to register as a speaker. Please note that the public comment period for speakers may end before the time indicated on the schedule that is posted on the CBP web page, http://www.cbp.gov/trade/stakeholder-engagement/coac.

FOR FURTHER INFORMATION CONTACT: Ms. Florence Constant-Gibson, Office of Trade Relations, U.S. Customs and Border Protection, 1300 Pennsylvania Avenue NW, Room 3.5A, Washington, DC 20229; telephone (202) 344-1440; facsimile (202) 325-4290; or Mr. Bradley Hayes, Executive Director and Designated Federal Officer at (202) 344-1440.

SUPPLEMENTARY INFORMATION: Notice of this meeting is given under the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Agenda

1. The Next Generation Facilitation Subcommittee will discuss the Emerging Technologies Working Group's progress on various Blockchain Proof of Concept Projects and other initiatives. An update will be provided regarding the creation of the new Interagency Collaboration/One U.S. Government Working Group. This new working group is a collaborative effort between the government and the trade community to discuss operational and technical issues impacting one or more U.S. government agencies; including, but not limited to, the CBP trade strategy. Finally, CBP will provide an update on the efforts of E-Commerce projects and next steps for the COACE-Commerce Working Group.

2. The Intelligent Enforcement (IE) Subcommittee will discuss the progress made on CBP's Joint Strategic Plan required under Section 105 of the Trade Facilitation and Trade Enforcement Act of 2015 (TFTEA). The subcommittee will also provide updates from the Anti-Dumping and Countervailing Duties (AD/CVD) and Bond Working Groups on risk-based bonding. Additionally, the Intellectual Property Rights (IPR) Working Group will discuss the progress made on prior recommendations and plans to address the Presidential Memorandum on Combatting Trafficking in Counterfeit and Pirated Goods. Lastly, the IE Subcommittee will discuss new topics to be addressed by the Forced Labor Working Group.

3. The Rapid Response Subcommittee will provide an update on progress made by the Northern Triangle Working Group and a preliminary report. The report will outline initial findings and actionable short, medium, and long-term recommendations.

4. The Secure Trade Lanes Subcommittee will present a summary of the activities of the Trusted Trader Working Group as well as the activities to date regarding the Customs Trade Partnership Against Terrorism (CTPAT) Trade Compliance Program. The subcommittee will also provide an update on the progress of the In-Bond Working Group's analysis of the current In-Bond processes and proposed changes. The newly launched Export Modernization Working Group will provide updates regarding the expansion of CBP's post departure filing program and other related subcommittee activities.

Meeting materials will be available by August 19, 2019, at: http://www.cbp.gov/trade/stakeholder-engagement/coac/coac-public-meetings.

Dated: July 30, 2019.
Valarie Neuhart,
Acting Executive Director, Office of Trade Relations.

[FR Doc. 2019-16584 Filed 8-1-19; 8:45 am]

BILLING CODE 9111-14-P